DEPARTMENT OF HOMELAND SECURITY

[Docket No. DHS-2010-0032]

Critical Infrastructure Partnership Advisory Council

AGENCY: National Protection and Programs Directorate, DHS.

ACTION: Notice of the Critical Infrastructure Partnership Advisory Council (CIPAC) charter renewal.

SUMMARY: The Department of Homeland Security (DHS) announced the establishment of the CIPAC by notice published in the Federal Register on March 24, 2006. That notice identified the purpose of CIPAC as well as its membership. This notice provides (i) The notice of the CIPAC charter renewal, (ii) instructions on how the public can obtain the CIPAC membership roster and other information on the Council, and (iii) information on the State, Local, Tribal, and Territorial Government Coordinating Council and its membership within CIPAC.

FOR FURTHER INFORMATION CONTACT: Nancy J. Wong, Director, Partnership Programs and Information Sharing Office, Partnership and Outreach Division, Office of Infrastructure Protection, National Protection and Programs Directorate, Department of Homeland Security, 245 Murray Lane, SW., Mail Stop 0607, Arlington, VA 20598-0607, telephone (703) 603-5072, e-mail CIPAC@dhs.gov.

Responsible DHS Official: Nancy J. Wong, Director Partnership Programs and Information Sharing Office, Partnership and Outreach Division, Office of Infrastructure Protection, National Protection and Programs Directorate, Department of Homeland Security, 245 Murray Lane, SW., Mail Stop 0607, Arlington, VA 20598-0607, telephone (703) 603-5072.

SUPPLEMENTARY INFORMATION: Notice of CIPAC Renewal: On March 19, 2010, the Secretary of Homeland Security extended CIPAC for a period of two years. The current CIPAC charter reflecting the Secretary's action is available on the CIPAC Web site.

Purpose and Activities: CIPAC facilitates interaction between government officials and representatives of the community of owners and operators for each of the critical infrastructure and key resources (CIKR) sectors defined by Homeland Security Presidential Directive 7 (HSPD-7) and identified in the National Infrastructure Protection Plan (NIPP). The scope of activities covered by CIPAC includes planning; coordinating among government and CIKR owner/operator security partners; implementing security program initiatives; conducting operational activities related to critical infrastructure protection security measures, incident response, recovery, and infrastructure resilience; reconstituting CIKR assets and systems for both man-made and naturally occurring events; and sharing threat, vulnerability, risk mitigation, and infrastructure continuity information.

Organizational Structure: CIPAC members are organized into the 18 HSPD-7 CIKR sectors. Within all of the sectors containing CIKR owner/operators, there generally exists a Sector Coordinating Council (SCC) that includes CIKR owners and/or operators or their representative trade associations. Each of the sectors also has a Government Coordinating Council (GCC) whose membership includes a lead Federal agency that is defined as the Sector Specific Agency (SSA), and all of the relevant Federal, State, local, tribal, and/or territorial government agencies (or their representative bodies) whose mission interests also involve the scope of the CIPAC activities for that particular sector.

Membership: CIPAC Membership includes (i) CIKR owner and/or operator members of an SCC; (ii) trade associations representing the interests of CIKR owners and/or operators that own and invest in infrastructure assets or in the systems and processes to secure them, or representing CIKR owners and/or operators whom are held responsible by the public for CIKR operations and the response and recovery when their CIKR assets and systems are disrupted who are members of an SCC; (iii) each sector's GCC; and (iv), based upon DHS' recent establishment of this council, State, local, tribal, and territorial governmental officials comprising the DHS State, Local, Tribal, and Territorial GCC.

CIPAC Membership Roster and Council Information: The current roster of CIPAC membership is published on the CIPAC Web site (http://www.dhs.gov/cipac) and is updated as the CIPAC membership changes. Members of the public may visit the CIPAC Web site at any time to obtain current CIPAC membership as well as the current and historic list of CIPAC meetings and agendas.

Dated: April 16, 2010.
Nancy Wong,
Designated Federal Official for the CIPAC.

[FR Doc. 2010-9321 Filed 4-21-10; 8:45 am]

BILLING CODE 9110-9P-P